DEPARTMENT OF HEALTH AND HUMAN SERVICES

National Institutes of Health

National Cancer Institute; Amended Notice of Meeting

Notice is hereby given of a change in the meeting of the National Cancer Institute Special Emphasis Panel, January 24, 2011, 5 p.m. to January 26, 2011, 5 p.m., Bethesda North Marriott Hotel & Conference Center, 5701 Marinelli RD, Bethesda, MD, 20852 which was published in the Federal Register on November 24, 2010, 75 FR 71713.

This notice is amending the meeting from three days to two days. The new date and time of this meeting is January 25, 2011, 8 a.m. to January 26, 2011, 5 p.m. The meeting is closed to the public.

Dated: January 11, 2011.
Jennifer S. Spaeth,
Director, Office of Federal Advisory Committee Policy.

[FR Doc. 2011-875 Filed 1-14-11; 8:45 am]

BILLING CODE 4140-01-P